DEPARTMENT OF HEALTH AND HUMAN SERVICES

Health Resources and Services Administration

Privacy Act of 1974; Deletion of a System of Records

AGENCY: Department of Health and Human Services (HHS), Health Resources and Services Administration (HRSA).

ACTION: Notice to delete an existing system of records (SOR).

SUMMARY: In accordance with the requirements of the Privacy Act of 1974, the Health Resources and Services Administration (HRSA) is deleting an existing system of records titled “Ricky Ray Hemophilia Relief Fund Act of 1998,” HRSA System No. 09-15-0061, established at Volume 64, Number 237 Federal Register pages 69274-69277 on December 10, 1999.

DATES: HRSA filed a deletion of a system report with the Chair of the House Committee on Government Reform and Oversight, the Chair of the Senate Committee on Homeland Security and Governmental Affairs, and the Administrator, Office of Information and Regulatory Affairs, Office of Management and Budget (OMB) on October 26, 2009. To ensure all parties have adequate time in which to comment, the deletion of the system will become effective 30 days from the publication of the notice or 40 days from the date it was submitted to OMB and Congress, whichever is later, unless HRSA receives comments that require alterations to this notice.

ADDRESSES: Please address comments to Dr. Geoffrey Evans, HRSA/HSB, 5600 Fishers Lane, Room 11C-26, Rockville, Maryland 20857. Comments received will be available for review and inspection, by appointment, at this same address from 9 a.m. to 3 p.m. Eastern Standard Time Zone, Monday through Friday.

FOR FURTHER INFORMATION CONTACT: Dr. Geoffrey Evans, HRSA/HSB, 5600 Fishers Lane, Room 11C-26, Rockville, Maryland 20857; telephone 301-443-6593. This is not a toll-free number.

SUPPLEMENTARY INFORMATION: The Ricky Ray Hemophilia Relief Fund Act of 1998 ended on October 31, 2005; therefore, HRSA proposes to delete this SOR as HRSA no longer collects, maintains, stores, processes, and retrieves data regarding individuals in this program area. The Program archived all outstanding documentation at the Washington National Records Center in Suitland, Maryland, in accordance with the requirements of the National Archives and Records Administration.

Dated: October 13, 2009.
Mary K. Wakefield,
Administrator.

[FR Doc. E9-26532 Filed 11-3-09; 8:45 am]

BILLING CODE 4160-15-P